DEPARTMENT OF AGRICULTURE

Food and Nutrition Service

Agency Information Collection Activities: Proposed Collection; Comment Request—Supplemental Nutrition Assistance Program: State Issuance and Participation Estimates—Recordkeeping for Forms FNS-388 and FNS-388A

AGENCY: Food and Nutrition Service (FNS), USDA.

ACTION: Notice.

SUMMARY: In accordance with the Paperwork Reduction Act of 1995, the Food and Nutrition Service (FNS) is publishing for public comment a summary of a proposed information collection. This is a revision of a currently approved collection for the Supplemental Nutrition Assistance Program (SNAP), the forms FNS-388, State Issuance and Participation Estimates, and FNS-388A, Project Area Data Format. The reporting burden for forms FNS-388 and FNS-388A were merged in 2015 with the burden for the Food Programs Reporting System (OMB control number 0584-0594, expiration date June 30, 2019). This 60-day notice serves to renew the recordkeeping burden only for these two forms.

DATES: Written comments must be received on or before October 11, 2016.

ADDRESSES: Comments are invited on: (a) Whether the proposed collection of information is necessary for the proper performance of the functions of the agency, including whether the information shall have practical utility; (b) the accuracy of the agency's estimate of the burden of the proposed collection of information including the validity of the methodology and assumptions used; (c) ways to enhance the quality, utility, and clarity of the information to be collected; and (d) ways to minimize the burden of the collection of information on those who are to respond, including use of appropriate automated, electronic, mechanical, or other technological collection techniques or other forms of information technology.

Comments may be sent to Jane Duffield, Chief, State Administration Branch, Supplemental Nutrition Assistance Program, Food and Nutrition Service, U.S. Department of Agriculture, 3101 Park Center Drive, Room 818, Alexandria, VA 22302. Comments may also be submitted via email to SNAPSAB@fns.usda.gov. Comments will also be accepted through the federal eRulemaking Portal. Go to http://www.regulations.gov, and follow the online instructions for submitting comments electronically.

All responses to this notice will be summarized and included in the request for Office of Management and Budget approval. All comments will become a matter of public record.

FOR FURTHER INFORMATION CONTACT: Requests for additional information or copies of this information collection should be directed to Ralph Badette at 703-457-7717.

SUPPLEMENTARY INFORMATION: Title: State Issuance and Participation Estimates.

Form Number: FNS-388 and FNS-388A.

OMB Number: 0584-0081.

Expiration Date: July 31, 2016.

Type of Request: Revision of a currently approved collection.

Abstract: Section 18(b) of the Food and Nutrition Act, (the Act) 7 U.S.C. 2027(b), limits the value of allotments paid to SNAP households to an amount not in excess of the appropriation for the fiscal year. If allotments in any fiscal year would exceed the appropriation, the Secretary of Agriculture is required to direct State agencies to reduce the value of SNAP allotments to the extent necessary to stay within appropriated funding limits. Timely State monthly issuance estimates are necessary for FNS to ensure that it remains within the appropriation. The estimates will also have a direct effect upon the manner in which allotments would be reduced if necessary. While benefit reductions have never been ordered in the past under section 18(b) nor are they anticipated based on current data, the Department must continue to monitor actual program costs against the appropriation. The reporting burden for forms FNS-388 and FNS-388A was merged in 2015 with the burden for the Food Programs Reporting System (OMB control number 0584-0594, expiration date June 30, 2019). This 60-day notice serves to renew the recordkeeping burden only for these two forms.

Section 11(e)(12) of the Food and Nutrition Act, 7 U.S.C. 2020 (e)(12), requires that the State Plan of Operations provide for the submission of reports required by the Secretary of Agriculture. State agencies are required to report on a monthly basis on the FNS-388, State Issuance and Participation Estimates, estimated or actual issuance and participation data for the current month and previous month, and actual participation data for the second preceding month. The FNS-388 report provides the necessary data for an early warning system to enable the Department to monitor actual and estimated costs for all benefit types against the appropriation.

Disaster SNAP is authorized by sections 402 and 502 of the Robert T. Stafford Disaster Relief and Emergency Assistance Act (42 U.S.C. 5121 et seq.) and the temporary emergency provisions contained in Section 5 of the Food and Nutrition Act of 2008, and in 7 CFR part 280 of the SNAP regulations. State agencies may request FNS approval to operate a Disaster SNAP in an area that has received a Presidential declaration as a Major Disaster area eligible for Individual Assistance. In accordance with 7 CFR 274.4, State agencies shall keep records and report SNAP participation and issuance totals to FNS.

State agencies in general only submit one statewide FNS-388 per month, which covers benefits from their Electronic Benefit Transfer (EBT) system. The exception is State agencies that choose to operate an approved alternative issuance demonstration project such as a cash-out system submit a separate report for each additional type of issuance system. As a result of the reporting burden for these forms being merged with 0584-0594, the collective burden will be reduced by 5,187 hours. The remaining 17.28 hours represents the State recordkeeping burden for these forms. Per 7 CFR 272.1(f), State agencies are required to retain all records associated with the administration of SNAP for no less than 3 years. The recordkeeping burden has not changed.

Affected Public: State agencies that administer SNAP.

Estimated Number of Respondents: 53.

Estimated Number of Responses per Respondent: 13.58.

Estimated Total Annual Responses: 719.74 rounded up to 720.

Estimated Hours per Response: .024.

Estimated Total Annual Burden on Respondents: This revised annual recordkeeping burden for OMB No. 0584-0081, is 17.28 hours. The current burden inventory for this collection is 5,187 hours. This decrease is a result merging the reporting burden to OMB# 0584-0594 collection. See the table below for estimated total annual burden.

Affected public | Forms | Number of recordkeepers | Frequency of response | Total annual records | Time per response (hours) | Annual recordkeeping hours
State Agencies | FNS-388 | 53 | 11.32 | 600 | .024 | 14.4
| FNS-388A | 53 | 2.26 | 120 | .024 | 2.88
Record-keeping Burden |  | 53 | 13.58 | 720 | 0.024 | 17.28

Dated: July 12, 2016.
Audrey Rowe,
Administrator, Food and Nutrition Service.

[FR Doc. 2016-18972 Filed 8-9-16; 8:45 am]

BILLING CODE 3410-30-P